DEPARTMENT OF COMMERCE

Bureau of Industry and Security

Materials Technical Advisory Committee; Notice of Open Meeting

The Materials Technical Advisory Committee will meet on November 16, 2017, 10:00 a.m., Herbert C. Hoover Building, Room 3884, 14th Street between Constitution & Pennsylvania Avenues NW., Washington, DC. The Committee advises the Office of the Assistant Secretary for Export Administration with respect to technical questions that affect the level of export controls applicable to materials and related technology.

Agenda

Open Session

1. Introductions and opening remarks by senior management

2. Presentation by Gerard Horner and Anna Bruse on Automated Export System

3. Presentation by Rocco Casagrande on “Overview of Synthetic Biology ”

4. Open session report by regime representatives

5. Update on plans for 2018/Public Comments/New Business

The open session will be accessible via teleconference to 20 participants on a first come, first serve basis. To join the conference, submit inquiries to Ms. Yvette Springer at Yvette.Springer@bis.doc.gov, no later than November 9, 2017.

A limited number of seats will be available during the public session of the meeting. Reservations are not accepted. To the extent time permits, members of the public may present oral statements to the Committee. Written statements may be submitted at any time before or after the meeting. However, to facilitate distribution of public presentation materials to Committee members, the materials should be forwarded prior to the meeting to Ms. Springer via email.

For more information, call Yvette Springer at (202) 482-2813.

Yvette Springer,
Committee Liaison Officer.

[FR Doc. 2017-23727 Filed 10-31-17; 8:45 am]

BILLING CODE 3510-JT-P